UNIFIED CARRIER REGISTRATION PLAN

Sunshine Act Meetings

TIME AND DATE: July 27, 2023, 10:00 a.m. to 4:30 p.m., Mountain Time.

PLACE: This meeting will take place at the Denver Sonesta Downtown, Ellington A/B, 1450 Glenarm Place, Denver, CO 80202. This meeting will also be accessible via conference call and via Zoom Meeting and Screenshare. Any interested person may call (i) 1-929-205-6099 (US Toll) or 1-669-900-6833 (US Toll), Meeting ID: 961 1570 6827, to listen and participate in this meeting. The website to participate via Zoom Meeting and Screenshare is https://kellen.zoom.us/meeting/register/tJIsduyvrj0iGNOplt-GS3uP5C7Oz7U2K0Mo.

STATUS: This meeting will be open to the public.

MATTERS TO BE CONSIDERED: The Unified Carrier Registration Plan Board of Directors (the “Board”) will continue its work in developing and implementing the Unified Carrier Registration Plan and Agreement. The subject matter of this meeting will include:

Proposed Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed, and the Board will consider adoption.

Ground Rules

➢Board actions taken only in designated areas on agenda.

IV. Approval of Minutes of the June 8, 2023, UCR Board Meeting—UCR Board Chair

For Discussion and Possible Board Action

Draft Minutes from the June 8, 2023 UCR Board meeting will be reviewed. The Board will consider action to approve.

V. Report of FMCSA—FMCSA Representative

The Federal Motor Carrier Safety Administration (FMCSA) will provide a report on relevant activity.

VI. Appearance Before the Board by the States of California, Idaho, Delaware, Indiana, Mississippi, North Dakota, Pennsylvania, and South Carolina To Explain Their Non-Compliance With State Performance Standards—UCR Executive Director

The UCR Executive Director will provide background regarding the non-compliance of California, Idaho, Delaware, Indiana, Mississippi, North Dakota, Pennsylvania, and South Carolina with state performance standards for reporting year 2022 and introduce a representative from each of the non-compliant 8 states. The UCR Plan is requesting each state to explain why the deficiency occurred, and what is being done to prevent a deficiency in the future.

VII. Renewal and Renaming of Existing Audit “Pilot Projects”—UCR Executive Director

For Discussion and Possible Board Action

The UCR Executive Director will lead a discussion on the renewal and renaming of Existing Audit “Pilot Projects” into “Compliance Specialist Agreements.” The Board may take action to approve the renewal and renaming of existing “Pilot Projects” under contractual terms adopted by the Board.

VIII. Proposal To Contract With DSL for One Additional Compliance Specialist FTE—UCR Executive Director

For Discussion and Possible Board Action

The UCR Executive Director will lead a discussion to contract with DSL for one additional Compliance Specialist whose scope of work is concentrated on, but not limited to, FARs audits. The Board may take action to approve an agreement with DSL that adds an additional Compliance Specialist FTE.

IX. Discussion of Proposed Changes to UCR Agreement—UCR Board Chair, UCR Board Vice-Chair, UCR Audit Subcommittee Chair, UCR Executive Director, UCR Chief Legal Officer

For Discussion and Possible Board Action

The UCR Board Chair, UCR Board Vice-Chair, UCR Audit Subcommittee Chair, UCR Executive Director, and UCR Chief Legal Officer will discuss proposed changes to the UCR Agreement. The Board may take additional action on the proposed amendments to the UCR Agreement, including possible adoption.

X. UCR Penetration Test—Kellen Representative

Kellen's Chief Technology Officer will provide an update and report on relevant activity.

XI. Discussion of Automatic Annual Renewal of UCR Registration—UCR Executive Director and Seikosoft

For Discussion and Possible Board Action

The UCR Executive Director and Seikosoft will lead a discussion on the issues involved in the voluntary annual automatic renewal of UCR registrations. The Board may take action to allow Seikosoft to design and implement a system that allows for the voluntary annual automatic renewal of UCR registrations using business rules defined by the Board.

XII. Discussion of a Possible Agreement Between Henry Su and the UCR Plan—UCR

Executive Director and UCR Chief Legal Officer

For Discussion and Possible Board Action

The UCR Executive Director and UCR Chief Legal Officer will present an agreement between the UCR Plan and Henry Su that engages Henry Su to assist with analysis and the drafting of necessary documents as part of the 2025 fee recommendation to the US DOT Secretary. The Board may take action to adopt an agreement between the UCR Plan and Henry Su to assist with analysis and the drafting of necessary documents as part of the 2025 fee recommendation to the US DOT Secretary.

XIII. Subcommittee Reports

Audit Subcommittee—UCR Audit Subcommittee Chair

A. Update on the Project To Replace the Retreat Audit Program With a Program That Relies on Roadside Inspection Data—UCR Audit Subcommittee Chair, UCR Audit Subcommittee Vice-Chair, DSL Transportation Representative, Seikosoft Representative

The UCR Audit Subcommittee Chair, UCR Audit Subcommittee Vice-Chair, DSL Transportation Representative and a Seikosoft Representative will lead a discussion on options to replace the Retreat Audit Program currently utilized by the States with a roadside inspection data driven audit for non-IRP plated commercial motor vehicles and the motor carriers operating this type of registered equipment.

B. Options To Clean Up the Unregistered Motor Carrier UCR Universe in Shadow MCMIS—UCR Audit Subcommittee Chair, UCR Audit Subcommittee Vice-Chair, Seikosoft Representative

The UCR Audit Subcommittee Chair, UCR Audit Subcommittee Vice-Chair and a Seikosoft Representative will lead a discussion on steps necessary for the NRS and State Auditors to address the 2022/2023 unregistered motor carriers.

C. Update on the Upcoming Question and Answer Session for State Auditors—UCR Audit Subcommittee Chair, UCR Audit Subcommittee Vice-Chair, UCR Executive Director

The UCR Audit Subcommittee Chair, UCR Audit Subcommittee Vice-Chair and UCR Executive Director will lead a discussion regarding the upcoming 60-minute virtual question and answer sessions.

Finance Subcommittee—UCR Finance Subcommittee Chair

A. Amendments to the Unbudgeted Expense Reserve Policy—UCR Finance Subcommittee Chair

For Discussion and Possible Board Action

The UCR Finance Subcommittee Chair will lead a discussion regarding possible amendments to the Unbudgeted Expense Reserve Policy. The UCR Finance Subcommittee Chair may move and the Board may adopt the UCR Finance Subcommittee's recommended amendments to the Unbudgeted Expense Reserve Policy.

B. Amendments To Change the Method of Estimating Collections for the Future Months Remaining in a Registration Year—UCR Finance Subcommittee Chair

For Discussion and Possible Board Action

The UCR Finance Subcommittee Chair will lead a discussion regarding possible amendments to Section 6.c.ii of the Fee Change Recommendation Policy to change the method of estimating collections for the future months remaining in a registration year. The UCR Finance Subcommittee Chair may move and the Board may adopt the UCR Finance Subcommittee's recommended amendments to the method of estimating collections for future months remaining in a registration year.

C. 2025 Registration Fee Analysis and Recommendation—UCR Finance Subcommittee Chair

For Discussion and Possible Board Action

The UCR Finance Subcommittee Chair will provide an analysis pertaining to the setting of 2025 registration fees and a 2025 registration fee recommendation. The UCR Finance Subcommittee Chair may move and the Board may adopt the UCR Finance Subcommittee's recommendation for a 2025 fee recommendation to the US DOT Secretary.

Education and Training Subcommittee—UCR Education and Training Subcommittee Chair

Update on Current and Future Training Initiatives—UCR Education and Training Subcommittee Chair

The Education and Training Subcommittee Chair will provide an update on current and future training initiatives and the E-Certificate program.

Industry Advisory Subcommittee—UCR Industry Advisory Subcommittee Chair

Update on Current Initiatives—UCR Industry Advisory Subcommittee Chair

The UCR Industry Advisory Subcommittee Chair will provide an update on current and future initiatives regarding motor carrier industry concerns.

Enforcement Subcommittee—UCR Enforcement Subcommittee Chair

Update on Current Initiatives—UCR Enforcement Subcommittee Chair

The UCR Enforcement Subcommittee Chair will provide an update on current and future initiatives.

Dispute Resolution Subcommittee—UCR Dispute Resolution Subcommittee Chair

Update on Current Initiatives—UCR Dispute Resolution Subcommittee Chair

The UCR Dispute Resolution Subcommittee Chair will provide an update on future initiatives.

XIV. Contractor Reports—UCR Board Chair

UCR Executive Director's Report

The UCR Executive Director will provide a report covering recent activity for the UCR Plan.

DSL Transportation Services, Inc.

DSL Transportation Services, Inc. will report on the latest data from the Focused Anomaly Reviews (FARs) program, discuss motor carrier inspection results, pilot projects and other matters.

Seikosoft

Seikosoft will provide an update on recent/new activity related to the National Registration System (NRS).

UCR Administrator Report (Kellen)

The UCR Chief of Staff will provide a management report covering recent activity for the Depository, Operations, and Communications.

XV. Other Business—UCR Board Chair

The UCR Board Chair will call for any other business, old or new, from the floor.

XVI. Adjournment—UCR Board Chair

The UCR Board Chair will adjourn the meeting.

The agenda will be available no later than 5:00 p.m. Eastern time, July 19, 2023, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2023-15627 Filed 7-19-23; 4:15 pm]

BILLING CODE 4910-YL-P